DEPARTMENT OF HEALTH AND HUMAN SERVICES

Administration for Children and Families

Submission for Office of Management and Budget Review; Child Welfare Study To Enhance Equity With Data (New Collection)

AGENCY: Office of Planning, Research, and Evaluation; Administration for Children and Families, Department of Health and Human Services.

ACTION: Request for public comments.

SUMMARY: The Office of Planning, Research, and Evaluation (OPRE) within the Administration for Children and Families (ACF) is proposing a new information collection for the Child Welfare Study to Enhance Equity with Data (CW-SEED). The project aims to understand how and to what extent data are used to explore equity in service delivery and child and family outcomes, to identify barriers or problematic data practices, and to explore efforts by child welfare agencies and their partners to use data to reduce barriers across the continuum of child welfare services.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing OPREinfocollection@acf.hhs.gov. Identify all requests by the title of the information collection.

SUPPLEMENTARY INFORMATION: Description: CW-SEED will conduct qualitative case studies to describe the experiences of up to six state, local, and/or tribal child welfare agencies and their partners collecting and using data to advance equity in service delivery and child and family outcomes. The case studies will document promising data practices and the potential challenges to implementing them. Each case study will include two components (1) collection and review of site-specific documents and other relevant information, and (2) in-person site visits to collect detailed qualitative data and any additional documentation the sites can provide. This information collection aims to present an internally valid description of the experiences of the sites, not to promote statistical generalization to different sites.

Respondents: Child welfare agency leaders, managers or supervisors of direct service workers, direct service workers, and staff who work with the agency's data systems and/or conduct research; partner agency and community organization leaders, managers or supervisors of direct service workers, direct service workers, and staff who work with the organization's data systems and/or conduct research; and, members of advisory groups that work with child welfare agencies, partner agencies, or community organizations.

Annual Burden Estimates
Instrument | Number of respondents (total over request period) | Number of responses per respondent (total over request period) | Avg. burden per response (in hours) | Total burden (in hours) | Annual burden (in hours)
Instrument 1: Interview topic guide | 180 | 1 | 2 | 360 | 180
Instrument 2: Child welfare agency advisory focus group guide | 42 | 1 | 1.5 | 63 | 32
Instrument 3: Partner agency and community organization advisory focus group guide | 18 | 1 | 1.5 | 27 | 14
Instrument 4: Demonstration guide | 12 | 1 | 1 | 12 | 6

Estimated Total Annual Burden Hours: 232.

Authority: Social Security Act 426 [42 U.S.C. 626]

Mary B. Jones,
ACF/OPRE Certifying Officer.

[FR Doc. 2022-28068 Filed 12-23-22; 8:45 am]

BILLING CODE 4184-73-P